DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Southeast Region Permit Family of Forms.

Form Number(s): None.

OMB Approval Number: 0648-0205.

Type of Request: Regular submission.

Burden Hours: 15,671.

Number of Respondents: 16,820.

Average Hours per Response: The new information is included in a permit form, at no additional burden.

Needs and Uses: The participants in the federally-regulated fisheries in the Exclusive Economic Zone of the South Atlantic, Gulf of Mexico, and Caribbean are required to obtain federal permits under the existing permit program for the specific Fishery Management Plans of each region. National Oceanic and Atmospheric Administration, National Marine Fisheries Service (NOAA Fisheries Service) needs information from the applications and associated data collections to identify fishing vessels/dealers/participants, properly manage the fisheries, and generate fishery-specific data.

Additional information to be collected is crew size and percentage of ownership. The need to collect percentage of ownership in a corporation from permit holders is necessary information for the red snapper Individual Fishing Quota (IFQ) program. The IFQ program has a cap on share percent ownership of six percent. Without the ability to track corporate shareholder information, NOAA Fisheries Service will be unable to enforce this share ownership cap. The crew size information is being collected to better understand the nature of the fishery and the number of participants who are not permit holders.

Affected Public: Business or other for-profit organizations.

Frequency: Annually and on occasion.

Respondent's Obligation: Mandatory.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: May 12, 2008.
Gwellnar Banks,
Management Analyst, Office of the Chief Information Officer.

[FR Doc. E8-10852 Filed 5-14-08; 8:45 am]

BILLING CODE 3510-22-P